DEPARTMENT OF LABOR

Employment and Training Administration

[TA-W-61,721]

Oregon Cutting Systems Group, a Wholly Owned Subsidiary of Blount, Inc.; Warehouse: Clackamas, OR; Notice of Affirmative Determination Regarding Application for Reconsideration

By letter dated July 25, 2007, a worker requested administrative reconsideration of the Department's Notice of Negative Determination Regarding Eligibility to Apply for Worker Adjustment Assistance, applicable to workers and former workers of the subject firm. The negative determination was issued on June 29, 2007. The Department's Notice of determination was published in the Federal Register on July 19, 2007 (72 FR 39644). The negative determination was based on the Department's findings that, during the relevant period, workers at the subject facility performed warehousing activities related to the production of chainsaw chains, bars, and sprockets, and that the production that the workers support had shifted to a country that is neither a party to a free trade agreement with the United States nor a beneficiary under either the African Growth and Opportunity Act or the Caribbean Basin Economic Recovery Act. The negative determination was also based on the Department's findings that following the shift of production abroad, there were no imports and that it is not likely that these articles will be imported.

In the request for reconsideration, the worker alleged that the subject workers did not only support production, but were also engaged in production, and that production shifted to Canada. In support of the allegation, the worker provided a job description that reflected that the workers were engaged in assembly, inspection, and packaging activities.

The Department has carefully reviewed the workers' request for reconsideration and has determined that the Department will conduct further investigation.

Conclusion

After careful review of the application, I conclude that the claim is of sufficient weight to justify reconsideration of the U.S. Department of Labor's prior decision. The application is, therefore, granted.

Signed at Washington, DC, this 31st day of August 2007.
Elliott S. Kushner,
Certifying Officer, Division of Trade Adjustment Assistance.

[FR Doc. E7-17885 Filed 9-10-07; 8:45 am]

BILLING CODE 4510-FN-P